DEPARTMENT OF DEFENSE

Department of the Army

[Docket ID: USA-2023-HQ-0018]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by March 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Installation Management Command Survivor Outreach Service System (SOS IMCOM); OMB Control Number 0702-0148.

Type of Request: Revision.

Number of Respondents: 60,295.

Responses per Respondent: 2.

Annual Responses: 120,590.

Average Burden per Response: 20 minutes.

Annual Burden Hours: 40,197.

Needs and Uses: SOS is an Army-wide program that provides dedicated and comprehensive support services to all family members of soldiers who die while on active duty, including Regular Army, United States Army National Guard and Reserves patrons. SOS Support Coordinators serve as the main Survivor advocate. They facilitate support groups, provide life skills education, assist survivors in managing applicable life-long benefit transition milestones, connect survivors with counseling resources, and represent the command in contacts with community organizations. SOS Financial Counselors help survivors by assisting with budget counseling, debt management, education, and higher education needs. SOS staff members are required to make periodic communication with Survivors—at a minimum of one contact annually—to conduct well-being checks and milestone management reviews or determine the level of support Survivors desire. Information gathered in these meetings is input into the SOS application collection instrument by SOS staff members. No customers have access to the collection instrument. SOS staff members collect the information from the survivors and document the information as a direct contact within the SOS application case notes. The successful result of the information collection is an organized and up-to-date database of essential information on survivors that allows SOS to better provide the support they deserve.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 21, 2024.
Aaron T. Siegel,
Alternate OSD Federal Register Liaison Officer, Department of Defense.

[FR Doc. 2024-03977 Filed 2-26-24; 8:45 am]

BILLING CODE 6001-FR-P